DEPARTMENT OF TRANSPORTATION

Pipeline and Hazardous Materials Safety Administration

Notice of Application for Special Permits

AGENCY: Office of Hazardous Materials Safety, Pipeline and Hazardous Materials Safety Administration, (PHMSA), DOT.

ACTION: List of Applications for Special Permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before February 19, 2015.

Address Comments To: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(b); 49 CFR 1.53(b)).

Issued in Washington, DC, on January 8, 2015.
Donald Burger,
Chief, General Approvals and Permits.

New Special Permits
Application No. | Docket No. | Applicant | Regulations(s) affected | Nature of special permits thereof
16348-N |  | Premier Filling Company, Inc. Hoffman Estates, IL | 49 CFR 173.306(a)(3)(v) | To authorize the transportation in commerce of Division 2.2 hazardous materials in certain DOT specification 2Q non-refillable inner containers which have been tested by an alternative method in lieu of the hot water bath test. (mode 1).
16350-N |  | Arc Process, Inc. Austin, TX | 49 CFR 173.181(a), 173.187(g) | To authorize the manufacture, mark, sale and use of a non-DOT specification cylinder conforming in partwith DOT specification 4B. (modes 1, 2, 3).
16351-N |  | VSL B.V. Thijsseweg, The Netherlands | 49 CFR 173.302(a) | To authorize the transportation in commerce of certain Division 2.1 and 2.2 hazardous materials in non-DOT specification cylinders conforming to the TPED (Directive 2010/35/EC) specification. (modes 1, 4, 5).
16353-N |  | Candle Lamp Company, LLC Corona, CA | 49 CFR 173.304a(a)(1), 173.304a(d)(3)(ii) | To authorize the transportation in commerce of a Division 2.1 hazardous material in non-refillable non-DOT specification inside containers conforming with DOT Specification 2P except for size and testing requirements. (modes 1, 2, 3, 4).

[FR Doc. 2015-00706 Filed 1-16-15; 8:45 am]

BILLING CODE M